EXPORT-IMPORT BANK OF THE UNITED STATES

[Public Notice 2014-3005]

Agency Information Collection Activities: Proposed Collection; Comment Request; Generic Clearance for the Collection of Qualitative Feedback on Agency Service Delivery

AGENCY: Export-Import Bank of the United States.

ACTION: 30-Day notice of submission of information collection approval from the Office of Management and Budget and request for comments.

SUMMARY: As part of a Federal Government-wide effort to streamline the process to seek feedback from the public on service delivery, Export-Import Bank of the United States has submitted a Generic Information Collection Request (Generic ICR): “Generic Clearance for the Collection of Qualitative Feedback on Agency Service Delivery” to OMB for approval under the Paperwork Reduction Act (PRA) (44 U.S.C. 3501 et. seq.).

DATES: Comments must be submitted July 7, 2014 to be assured of consideration.

ADDRESSES: Comments may be submitted electronically on WWW.REGULATIONS.GOV (EIB 11-01) or by mail to Office of Information and Regulatory Affairs, 725 17th Street NW. Washington, DC 20038 Attn: OMB 3048-0036

Comments submitted in response to this notice may be made available to the public through the WWW.REGULATIONS.GOV. For this reason, please do not include in your comments information of a confidential nature, such as sensitive personal information or proprietary information. If you send an email comment, your email address will be automatically captured and included as part of the comment that is placed in the public docket and made available on the Internet. Please note that responses to this public comment request containing any routine notice about the confidentiality of the communication will be treated as public comments that may be made available to the public notwithstanding the inclusion of the routine notice.

FOR FURTHER INFORMATION CONTACT: To request additional information, please contact Andy Chang, Andy.Chang@exim.gov, or by mail to Andy Chang, Export-Import Bank of the United States, 811 Vermont Ave. NW. Washington, DC 20571

SUPPLEMENTARY INFORMATION:

Title: EIB 11-01, Generic Clearance for the Collection of Qualitative Feedback on Agency Service Delivery.0

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

The Agency received no comments in response to the 60-day notice published in the Federal Register of March 18, 2014 (Vol. 79, No. 52).

Below we provide Export-Import bank of the United States projected average estimates for the next three years: ¹

¹ The 60-day notice included the following estimate of the aggregate burden hours for this generic clearance federal-wide:

Average Expected Annual Number of activities: 23.

Average number of Respondents per Activity: 1,102.

Annual responses: 25,350.

Frequency of Response: Once per request.

Average minutes per response: 8.

Burden hours: 3,375.

Current Actions: Renewal of approval for collection of information.

Type of Review: Regular.

Survey Type: Web based/email survey: Feedback/Comment Evaluation Form; Detailed Mail Evaluation Form; Telephone; Focus Group.

Affected Public: Individuals and Households, Businesses and Organizations, State, Local or Tribal Government.

Estimated Number of Respondents in the three year interval: 14,010.

Below we provide projected average estimates for the next three years:

Average Expected Annual Number of activities: 10.

Average number of Respondents per Activity: 467.

Annual responses: 4,670.

Frequency of Response: Once per request.

Average minutes per response: 8.

Annual Burden hours: 623.

An agency may not conduct or sponsor, and a person is not required to respond to, a collection of information unless it displays a currently valid Office of Management and Budget control number.

Toya Woods,
Agency Clearance Officer.

[FR Doc. 2014-12834 Filed 6-3-14; 8:45 am]

BILLING CODE 6690-01-P